DEPARTMENT OF HOMELAND SECURITY

Coast Guard

33 CFR Part 117

[Docket No. USCG-2011-0467]

Drawbridge Operation Regulations; Cheesequake Creek, Morgan, NJ

AGENCY: Coast Guard, DHS.

ACTION: Notice of temporary deviation from regulations.

SUMMARY: The Commander, First Coast Guard District, has issued a temporary deviation from the regulation governing the operation of the Route 35 Bridge, mile 0.0, across Cheesequake Creek at Morgan, New Jersey. The deviation is necessary to perform structural and electrical rehabilitation. This deviation allows the bridge to remain in the closed position for four months.

DATES: This deviation is effective from December 1, 2011 through March 31, 2012.

ADDRESSES: Documents mentioned in this preamble as being available in the docket are part of docket USCG-2011-0467 and are available online at http://www.regulations.gov, inserting USCG-2011-0467 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.m.arca@uscg.mil, telephone (212) 668-7165. If you have questions on viewing the docket, call Renee V. Wright, Program Manager, Docket Operations, telephone (202) 366-9826.

SUPPLEMENTARY INFORMATION: The Route 35 Bridge, across Cheesequake Creek, mile 0.0, at Morgan, New Jersey, has a vertical clearance in the closed position of 25 feet at mean high water and 30 feet at mean low water. The drawbridge operation regulations are listed at 33 CFR 117.709.

The waterway is predominantly used by recreational vessels on a seasonal basis.

The owner of the bridge, the New Jersey Department of Transportation, requested a temporary deviation from the regulations to facilitate structural and electrical rehabilitation of the bridge.

The bridge would not be able to open for vessel traffic for four months during the prosecution of the bridge rehabilitation repairs; however, the repairs will take place during the winter months, December through March, when the bridge normally receives no requests to open.

The Coast Guard published notice of the proposed four month bridge closure in the Local Notice to Mariners on April 7, 2011, with a request for comments. No comments were received.

New Jersey Department of Transportation held a public information meeting with the local marinas and interested parties on March 24, 2011. No objections were received as a result of the public information meeting.

Under this temporary deviation the Route 35 Bridge may remain in the closed position for four months from December 1, 2011 through March 31, 2012. Vessels that can pass under the bridge in the closed position may do so at any time.

In accordance with 33 CFR 117.35(e), the bridge must return to its regular operating schedule immediately at the end of the designated time period. This deviation from the operating regulations is authorized under 33 CFR 117.35.

Dated: May 31, 2011.
Gary Kassof,
Bridge Program Manager, First Coast Guard District.

[FR Doc. 2011-15049 Filed 6-16-11; 8:45 am]

BILLING CODE 9110-04-P